DEPARTMENT OF JUSTICE

Notice of Lodging of Consent Decree Pursuant to the Comprehensive Environmental Response Compensation and Liability Act (“CERCLA”)

Notice is hereby given that on January 21, 2010, a proposed Consent Decree in United States v. United Fibers, LLC, et al. (N.D.N.Y.) No. 1:09-cv-00602 (GLS/RFT) was lodged with the United States District Court for the Northern District of New York.

In this action, the United States sought the recovery of response costs pursuant to Section 107(a) of the Comprehensive Environmental Response, Compensation, and Recovery Act, as amended (“CERCLA”), 42 U.S.C. 9607(a), from Defendants for response costs incurred at the Stevens & Thompson Paper Company Superfund Site (the “Site”), located in Washington County, New York. Pursuant to the proposed Consent Decree, the Settling Defendants will pay to the United States $498,519.18 in reimbursement of past response costs incurred by the United States with respect to the Site. The proposed Consent Decree provides the Settling Defendants with a covenant not to sue for past response costs pursuant to Section 107 of CERCLA, 42 U.S.C. 9607.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. United Fibers, LLC, et al. (N.D.N.Y.) No. 1:09-cv-00602 (GLS/RFT); D.J. Ref. 90-11-3-09724.

The Consent Decree may be examined at the Office of the United States Attorney, Northern District of New York, Post Office Box 7198, 100 South Clinton Street, Syracuse, New York 13261-7198 (contact AUSA William Pease), and at U.S. EPA Region II, 290 Broadway, New York, New York 10007-1866 (contact Jocelyn Scott). During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury or, if by e-mail or fax, forward a check in that amount to the Consent Decree Library at the stated address.

Maureen Katz,
Assistant Chief, Environmental Enforcement Section, Environment and Natural Resources Division.

[FR Doc. 2010-2069 Filed 3-1-10; 8:45 am]

BILLING CODE 4410-15-P